DEPARTMENT OF TRANSPORTATION

Federal Railroad Administration

[Docket No. FRA-2000-7257; Notice No. 25]

Railroad Safety Advisory Committee; Notice of Meeting

AGENCY: Federal Railroad Administration (FRA), Department of Transportation (DOT).

ACTION: Notice of Railroad Safety Advisory Committee (“RSAC”) meeting.

SUMMARY: FRA announces the next meeting of the RSAC, a Federal Advisory Committee that develops railroad safety regulations through a consensus process. The meeting will address a wide range of topics, including possible adoption of specific recommendations for regulatory action.

DATES: The meeting of the RSAC is scheduled to commence at 9:30 a.m. and conclude at 4 p.m. on Thursday, September 20, 2001.

ADDRESSES: The meeting of the RSAC will be held at the Almas Temple Club, 1315 K Street, NW., Washington, DC 20005, (202) 898-1688. The meeting is open to the public on a first-come, first-served basis and is accessible to individuals with disabilities. Sign and oral interpretation can be made available if requested 10 calendar days before the meeting.

FOR FURTHER INFORMATION CONTACT: Trish Butera, or Lydia Leeds, RSAC Coordinators, FRA, 1120 Vermont Avenue, NW., Stop 25, Washington, DC 20590, (202) 493-6212/6213 or Grady Cothen, Deputy Associate Administrator for Safety Standards and Program Development, FRA, 1120 Vermont Avenue, NW., Mailstop 25, Washington, DC 20590, (202) 493-6302.

SUPPLEMENTARY INFORMATION: Pursuant to section 10(a)(2) of the Federal Advisory Committee Act (Pub. L. 92-463), FRA is giving notice of a meeting of the Railroad Safety Advisory Committee (“RSAC”). The meeting is scheduled to begin at 9:30 a.m. and conclude at 4 p.m. on Thursday, September 20, 2001. The meeting of the RSAC will be held at the Almas Temple Club, 1315 K Street, NW., Washington, DC, 20005, (202) 898-1688. All times noted are Eastern Standard Time.

RSAC was established to provide advice and recommendations to the FRA on railroad safety matters. The Committee consists of 48 individual voting representatives and five associate representatives drawn from among 32 organizations representing various rail industry perspectives, two associate representatives from the agencies with railroad safety regulatory responsibility in Canada and Mexico and other diverse groups. Staffs of the National Transportation Safety Board and Federal Transit Administration also participate in an advisory capacity.

The RSAC will be briefed on the current status of all pending tasks, receive greetings and a charge from the new FRA Administrator, and discuss issues of interest with respect to railroad safety. Action may be taken on recommendations for a final rule on Cab Sanitation if the working group reports a consensus recommendation by the time of the September 20, 2001, meeting. See the RSAC website for details on pending tasks at: http: //rsac.fra.dot.gov/.

Please refer to the notice published in the Federal Register on March 11, 1996 (61 FR 9740) for more information about the RSAC.

Issued in Washington, D.C. on August 8, 2001.
George A. Gavalla,
Associate Administrator for Safety.

[FR Doc. 01-20396 Filed 8-13-01; 8:45 am]

BILLING CODE 4910-06-P